PEACE CORPS

Privacy Act of 1974: New System of Records

AGENCY: Peace Corps.

ACTION: Notice of a new system of records.

SUMMARY: Peace Corps proposes to add a new system of records to its inventory of records systems subject to the Privacy Act of 1974 (5 U.S.C. 552a), as amended. This action is necessary to meet the requirements of the Privacy Act to publish in the Federal Register notice of the existence and the requirements of the Privacy Act to publish in the Federal Register notice of the existence and character of records maintained by the agency (5 U.S.C. 552a(e)(4)).

DATES: This action will be effective without further notice on August 11, 2015 unless comments are received that would result in a contrary determination.

ADDRESSES: Send written comments to the Peace Corps, ATTN: Denora Miller, FOIA/Privacy Act Officer, 1111 20th Street NW., Washington, DC 20526 or by email at pcfr@peacecorps.gov. Email comments must be made in text and not in attachments.

FOR FURTHER INFORMATION CONTACT: Denora Miller, FOIA/Privacy Act Officer, 202-692-1236.

SUPPLEMENTARY INFORMATION: The purpose of this system of records is to record actions taken on complaints made under the Peace Corps Interim Policy Statement (IPS) 1-12 Procedures for Handling Complaints of Volunteer/Trainee Sexual Misconduct or the section of the Peace Corps Manual into which its provisions are subsequently incorporated.

Dated: June 26, 2015.
Denora Miller,
FOIA/Privacy Act Officer.

PC-35—PEACE CORPS

System name:

PCLive (also referred to as “Peace Corps Live”).

System location:

Office of the Chief Information Officer, Peace Corps, 1111 20th Street NW., Washington, DC 20526.

Categories of individuals covered by the system:

Any current Peace Corps employees or Volunteers.

Categories of records in the system:

Volunteers: Name, country of service, years of service (start year and end year), email address, and Sector. Staff: Name, job title, and email address. If staff is also a returned Volunteer: country of service and years of service (start year and end year).

Authority for maintenance of the system:

The Peace Corps Act, 22 U.S.C. 2501 et seq.

Purpose(s):

To serve as a centralized, knowledge-sharing platform for the global Peace Corps community. Users (Peace Corps staff and Volunteers) will create user profiles on PCLive. These users create profiles for the purpose of connecting with other staff and Volunteers around the world (sharing information, best practices, and institutional knowledge).

Routine uses of records maintained in the system, including categories of users and the purposes of such uses:

General routine uses A through M apply to this system. In addition to general routine uses, the Peace Corps will use the data collected during the account registration process to confirm the user is a current Peace Corps employee or Volunteer.

Disclosure to consumer reporting agencies:

None.

Policies and practices for storing, retrieving, securing, retaining, and disposing of records in the system:

Storage:

In a password protected electronic database.

Retrievability:

By name, email address, username or a unique identifier (which is assigned at registration).

Safeguards:

Records are maintained in a secure, password-protected computer system. Only server administrators have access to the physical database where this information is stored.

Retention and Disposal:

All user profile data will be stored in an electronic database and retained for a period of up to 24 months (pending National Archives disposition authority) after the Peace Corps Volunteer or staff member has separated from service or employment.

System manger(s) and address:

Director, Overseas Programming & Training Support (OPATS), Peace Corps, 1111 20th Street NW., Washington, DC 20526.

Notification procedure:

Any individual who wants notification that this system of records contains a record about him or her should make a written request to the System Manager. Requesters will be required to provide adequate identification, such as a driver's license, employee identification card, or other identifying documentation. Additional identification may be required in some instances. Complete Peace Corps Privacy Act procedures are set out in 22 CFR part 308.

Record access procedures:

Any individual who wants access to his or her record should make a written request to the System Manager. Requesters will be required to provide adequate identification, such as a driver's license, employee identification card, or other identifying documentation. Additional identification may be required in some instances. Complete Peace Corps Privacy Act procedures are set out in 22 CFR part 308.

Contesting record procedures:

Any individual who wants to contest the contents of a record should make a written request to the System Manager. Requesters will be required to provide adequate identification, such as a driver's license, employee identification card, or other identifying documentation. Additional identification may be required in some instances. Requests for correction or amendment must identify the record to be changed and the corrective action sought. Complete Peace Corps Privacy Act procedures are set out in 22 CFR part 308.

Record source categories:

Record subject.

Systems exempted from certain provisions of the Privacy Act:

None.

[FR Doc. 2015-16282 Filed 7-1-15; 8:45 am]

BILLING CODE 6051-01-P